ENVIRONMENTAL PROTECTION AGENCY

[FRL-7383-5]

Anniston PCB Superfund Site; Notice of Proposed Settlement

AGENCY: Environmental Protection Agency.

ACTION: Notice of proposed settlement.

SUMMARY: The United States Environmental Protection Agency is proposing to enter into an administrative settlement with Pharmacia Corporation (p/k/a Monsanto Company) and Solutia Inc. for response costs pursuant to section 122 of the Comprehensive Environmental Response, Compensation, and Liability Act (CERCLA), 42 U.S.C. 9622(h)(1) concerning the Anniston PCB Superfund Site (Site) located in Anniston, Calhoun County, Alabama. EPA will consider public comments on the proposed settlement for thirty (30) days. EPA may withdraw from or modify the proposed settlement should such comments disclose facts or considerations which indicate the proposed settlement is inappropriate, improper or inadequate. Copies of the proposed settlement are available from: Ms. Paula V. Batchelor, U.S. EPA, Region 4, (WMD-CPSB), 61 Forsyth Street, SW., Atlanta, Georgia 30303, (404) 562-8887.

Written comments may be submitted to Ms. Batchelor within 30 calendar days of the date of this publication.

Dated: September 9, 2002.
James T. Miller,
Acting Chief, CERCLA Program Services Branch, Waste Management Division.

[FR Doc. 02-24494 Filed 9-25-02; 8:45 am]

BILLING CODE 6560-50-P